DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 11, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Food Donation Programs (Food for Progress & Section 416(b)) and McGovern-Dole International Food for Education & Child Nutrition Program.

OMB Control Number: 0551-0035.

Summary of Collection: The U.S. Department of Agriculture's Foreign Agricultural Service (FAS) provides U.S. agricultural commodities to feed millions of hungry people in needy countries through direct donations and concessional programs. USDA food aid may be provided through four program authorities: Food for Progress, section 416(b), the McGovern-Dole International Food for Education and Child Nutrition Program, and Public Law 480 (Pub. L. 480). Of these, only Food for Progress and McGovern-Dole are currently utilized.

Under the section 416(b) and Food for Progress programs (the “Foreign Donation Programs”) and the McGovern-Dole International Food for Education and Child Nutrition (“McGovern-Dole”) Program, information is gathered from applicants desiring to receive federal awards under the programs to determine the viability of requests for resources to implement activities in foreign countries. Recipients of awards under the programs must submit compliance reports and other information until activities carried out with donated commodities or funds, or local currencies generated from the sale of donated commodities, are completed.

Need and Use of the Information: Information is collected from Recipients to determine its ability to carry out a food aid program, to establish the terms under which commodities will be provided, to monitor the progress of commodity distribution (including how transportation is procured), to monitor the progress of expenditure of monetization funds, and to evaluate both the program's success and the Recipient's effectiveness in meeting intended results.

Description of Respondents: Business-for-not-for-Profit; Private voluntary organizations, cooperatives, colleges and universities, foreign governments, intergovernmental organizations, freight forwarders, ship owners and brokers, and survey companies.

Number of Respondents: 61.

Frequency of Responses: Annually.

Total Burden Hours: 88,548.

Rachelle Ragland-Greene,
Acting Departmental Information Collection Clearance Officer.

[FR Doc. 2024-05239 Filed 3-11-24; 8:45 am]

BILLING CODE 3410-10-P